SMALL BUSINESS ADMINISTRATION

[Disaster Declaration #12774 and #12775]

North Carolina Disaster Number NC-00036

AGENCY: U.S. Small Business Administration.

ACTION: Amendment 4.

SUMMARY: This is an amendment of the Presidential declaration of a major disaster for the State of North Carolina (FEMA-4019—DR), dated 08/31/2011.

Incident: Hurricane Irene.

Incident Period: 08/25/2011 through 09/01/2011.

DATES: Effective Date: 09/04/2011.

Physical Loan Application Deadline Date: 10/31/2011.

EIDL Loan Application Deadline Date: 05/31/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of North Carolina, dated 08/31/2011 is hereby amended to include the following areas as adversely affected by the disaster:

Primary Counties: (Physical Damage and Economic Injury Loans): Bertie, Brunswick, Camden, Chowan, Duplin, Edgecombe, Gates, Greene, Hertford, Johnston, Jones, Martin, Nash, New Hanover, Northampton, Pasquotank, Perquimans, Vance, Warren, Wilson.

Contiguous Counties: (Economic Injury Loans Only):

North Carolina: Columbus, Granville, Harnett, Sampson, Wake.

South Carolina: Horry.

Virginia: Brunswick, Greensville, Mecklenburg, Southampton, Suffolk City.

All other information in the original declaration remains unchanged.

(Catalog of Federal Domestic Assistance Numbers 59002 and 59008).

James E. Rivera,
Associate Administrator for Disaster Assistance.

[FR Doc. 2011-23434 Filed 9-13-11; 8:45 am]

BILLING CODE 8025-01-P